DEPARTMENT OF THE TREASURY

Internal Revenue Service

Open Meeting of the Taxpayer Advocacy Panel Area 6 Committee (Including the States of Arizona, Colorado, Idaho, Montana, New Mexico, North Dakota, Oregon, South Dakota, Utah, Washington and Wyoming)

AGENCY: Internal Revenue Service (IRS), Treasury.

ACTION: Notice.

SUMMARY: An open meeting of the Area 6 Committee of the Taxpayer Advocacy Panel will be conducted (via teleconference). The Taxpayer Advocacy Panel (TAP) is soliciting public comments, ideas, and suggestions on improving customer service at the Internal Revenue Service. The TAP will use citizen input to make recommendations to the Internal Revenue Service.

DATES: The meeting will be held Thursday, May 24, 2007.

FOR FURTHER INFORMATION CONTACT: Dave Coffman at 1-888-912-1227, or (206) 220-6096.

SUPPLEMENTARY INFORMATION: Notice is hereby given pursuant to Section 10(a)(2) of the Federal Advisory Committee Act, 5 U.S.C. App. (1988) that an open meeting of the Area 6 Committee of the Taxpayer Advocacy Panel will be held Thursday, May 24, 2007 from 1 p.m. to 2:30 p.m. Pacific Time via a telephone conference call. The public is invited to make oral comments. Individual comments will be limited to 5 minutes. Due to limited conference lines, notification of intent to participate in the telephone conference call meeting must be made to Dave Coffman. Mr. Coffman can be reached at 1-888-912-1227 or (206) 220-6096. If you would like to have the TAP consider a written statement, please call or write to Dave Coffman, TAP Office, 915 2nd Avenue, MS W-406, Seattle, WA 98174, or you can contact us at http://www.improveirs.org.

The agenda will include the following: Various IRS issues.

Dated: April 24, 2007.
John Fay,
Acting Director, Taxpayer Advocacy Panel.

[FR Doc. E7-8304 Filed 4-30-07; 8:45 am]

BILLING CODE 4830-01-P